Title 3—

The President

Proclamation 10051 of June 19, 2020

Father's Day, 2020

By the President of the United States of America

A Proclamation

Fathers are instrumental in helping prepare children for life, instilling in them the values essential to one day becoming responsible, grounded, and successful adults. As a Nation, we are grateful to the men dedicated to raising well-rounded children. On Father's Day, we honor and celebrate our fathers and father figures for their daily contributions to thriving families and communities.

The presence of fathers in the lives of our Nation's children is important to their growth, development, and well-being. Fathers serve as role models to their children, exemplifying hard work, devotion to family, self-confidence, and faith. Through their character, determination, strength, and direction, they guide our futures toward happiness. Thus, it is no surprise that research increasingly shows involved fathers can help foster self-esteem, success in school, empathy, and positive behavior in their children.

By raising children to be happy, productive, and responsible adults, fathers play a critical role in shaping our society. Our fathers set an example for us of how to be our best in every aspect of our lives. The lessons they teach us guide us as we strive to care for our families, succeed at school and at work, serve others, and contribute to our communities. They are integral to raising future generations of Americans who will continue to build an ever-stronger Nation. That is why my Administration continues to provide grant funding to organizations across our country that work to strengthen relationships between fathers and their children, foster responsible parenting, and help fathers find and keep gainful employment.

Our Nation is indebted to the men who have embraced the great blessing and solemn duty of fatherhood. Every day, they make sacrifices to ensure their children, whether by birth, adoption, or foster care, receive the care and affection they deserve. Today, we express our everlasting gratitude to our fathers and father figures for their love and commitment, and for all they have done to shape our lives.

NOW, THEREFORE, I, DONALD J. TRUMP, President of the United States of America, in accordance with a joint resolution of the Congress approved April 24, 1972, as amended (36 U.S.C. 109), do hereby proclaim June 21, 2020, as Father's Day. I call on United States Government officials to display the flag of the United States on all Government buildings on Father's Day and invite State and local governments and the people of the United States to observe Father's Day with appropriate ceremonies.

IN WITNESS WHEREOF, I have hereunto set my hand this nineteenth day of June, in the year of our Lord two thousand twenty, and of the Independence of the United States of America the two hundred and forty-fourth.

[FR Doc. 2020-13776

Filed 6-23-20; 11:15 am]

Billing code 3295-F0-P